DEPARTMENT OF HOUSING AND URBAN DEVELOPMENT

[Docket No.FR-5415-FA-22]

Announcement of Funding Awards for Fiscal Year 2010; Transformation Initiative: Natural Experiments Grant Program

AGENCY: Office of the Assistant Secretary for Policy Development and Research, HUD.

ACTION: Announcement of funding awards.

SUMMARY: In accordance with Section 102(a)(4)(C) of the Department of Housing and Urban Development (HUD) Reform Act of 1989, this document notifies the public of funding awards for the Fiscal Year (FY) 2010 Transformation Initiative: Natural Experiments Grant Program Notice of Funding Availability (NOFA), which was posted to Grants.gov on January 20, 2011. This announcement contains the names and addresses of the award winners and the amount of the awards to be issued.

FOR FURTHER INFORMATION CONTACT: Michael Morse, Office Policy Development and Research, Division of Program Monitoring and Research, U.S. Department of Housing and Urban Development, Room 8130, 451 7th Street, SW., Washington DC 20410, telephone number 202-402-5738. Persons with hearing or speech impairments may access this number by call the toll free Federal Relay Services at 1-800-877-8339.

SUPPLEMENTARY INFORMATION: The purpose of the FY 2010 Transformation Initiative: Natural Experiments Grant Program NOFA is to provide funding to support scientific research that makes use of natural experiments to evaluate the impacts of local, state, and federal policies. The FY 2010 NOFA made available approximately $600,000 under the Department of Housing and Urban Development Appropriations Act, 2010 (Pub. L. 111-117, approved December 16, 2009). The maximum grant performance period under the NOFA is 24 months; applicants could request $100,000 to $250,000 per award, depending of the scope of the proposed research. Awards under this NOFA will be made in the form of a Cooperative Agreement. A Cooperative Agreement means that HUD will have substantial involvement during the performance of the research project.

The Catalog of Federal Domestic Assistance number for this program is 14.524.

On January 20, 2011, HUD posted the FY 2010 Transformation Initiative: Natural Experiments Grant Program NOFA to Grants.gov. The Department reviewed, evaluated and scored the applications received based on the criteria in the NOFA. In accordance with Section 102(a)(4)(C) of the Department of Housing and Urban Development Reform Act of 1989 (103) Stat. 1987, U.S.C. 3545), the Department is publishing the names, addresses, and amounts of the awards made under this competition in Appendix A to this notice.

Dated: June 9, 2011.
Raphael W. Bostic,
Assistant Secretary for Policy Development and Research.

Appendix A

List of Awardees for Grant Assistance Under the Fiscal Year (FY) 2010 Transformation Initiative Research Program Funding Competition: Natural Experiment, by Institution, Address, Grant Amount and Name of Contact

1. Case Western Reserve University, Mr. Derek M. Humphrey, Assistant Director, 10900 Euclid Avenue, Cleveland, Ohio 44106-7015. Grant: $250,000.00.

2. City of New York Department of Housing Preservation and Development, Ms. Elyzabeth Gaumer, Director, Housing Policy Research and Program Evaluation, 100 Gold Street, New York, New York 10038-1605. Grant: $250,000.00.

3. New York City Department of Homeless Services, Ms. Joanna Weissman, Executive Director of Planning and Research, 33 Beaver Street, 20th floor, New York, New York, 10004-2737. Grant: $100,000.00.

[FR Doc. 2011-14913 Filed 6-15-11; 8:45 am]

BILLING CODE 4210-67-P